NATIONAL AERONAUTICS AND SPACE ADMINISTRATION

[Notice (03-072)]

14 CFR Part 1204

RIN 2700-AC57

Temporary Duty Travel—Issuance of Motor Vehicle for Home-to-Work Transportation

AGENCY: National Aeronautics and Space Administration (NASA).

ACTION: Notice of proposed rulemaking.

SUMMARY: NASA is proposing this rule to facilitate the efficient use of Government resources during temporary duty travel. Specifically, this rule would permit a NASA employee who is authorized to use a Government motor vehicle for temporary duty travel to be issued such a vehicle at the close of business of the preceding day so that the vehicle could be taken to the employee's residence for use on the following day. Likewise, if the NASA employee returns from official travel after the close of working hours, the vehicle could be returned on the next regular working day. This authority may be exercised only if there would be significant savings in time.

EFFECTIVE DATE: All comments should be submitted by August 22, 2003.

ADDRESS: All comments should be addressed to William Gookin, Code JG, National Aeronautics and Space Administration, Washington, DC 20546-0001.

FOR FURTHER INFORMATION CONTACT: William Gookin, 202-358-2306, FAX: 202-358-3235; e-mail: william.e.gookin@nasa.gov.

SUPPLEMENTARY INFORMATION: This proposed rule is designed to remedy a situation that often arises at certain NASA Installations. Employees who are authorized to use motor vehicles for temporary duty travel must pick up their vehicles at the Installation at the start of the travel period, even in cases where the employees' residence is closer to the temporary duty destination than to the Installation. Such unnecessary travel can sometimes result in a significant waste of official time and resources. This proposed rule would allow such employees to be issued vehicles at the close of the preceding working day, so that they could commence travel from their residences immediately on the next day. Such authority may only be exercised, however, if the authorizing official determines that there will be a significant savings in time. Likewise, if such employees are scheduled to return after working hours, they could take the vehicles to their residences and return them on the next regular working day. Although, the use of such vehicles for travel during the day preceding and subsequent to temporary duty travel is not official travel, NASA considers it to be “in conjunction with official travel,” 70 Comptroller General 196, and therefore, not prohibited by 31 U.S.C. 1344. This rule is proposed pursuant to Section 503 of the Ethics Reform Act of 1989 (Pub. L. 101-194) 31 U.S.C. 1344 note which authorizes agency heads to “prescribe by rule appropriate conditions for the incidental use, for other than official business,” of Government vehicles. This rule also implements 40 U.S.C. 486(c), that authorizes agency heads to issue directives carrying out the regulations of the General Services Administration (GSA), in this case the GSA rules for the use of Government vehicles at 41 CFR part 301-10, subpart C, “Government Vehicles.” See similar Department of Energy regulations at 41 CFR 109-6.400.

Regulatory Evaluation: This proposed rule is not a “significant regulatory action” under section 3(f) of Executive Order 12866, Regulatory Planning and Review, and does not require an assessment of potential costs and benefits under section 6(a)(3) of that Order.

Small Entities: As required by the Regulatory Flexibility Act (5 U.S.C. 601-612), we have considered whether this proposed rule would have a significant economic impact on a substantial number of small entities. The term “small entities,” comprises small businesses, not-for-profit organizations that are independently owned and operated and are not dominant in their fields, and governmental jurisdictions with populations of less than 50,000. NASA certifies under 5 U.S.C. 605(b) that this proposed rule will not have a significant economic impact on small business entities.

Collection of Information: This proposed rule does not contain any information collection requirements subject to the Paperwork Reduction Act of 1995 (44 U.S.C. 3501-3520).

List of Subjects in 14 CFR Part 1204

Government employees, Government property, and Government property management.

For the reasons discussed above, NASA proposes to amend 14 CFR part 1204 as follows:

PART 1204—[AMENDED]

Add subpart 16 to read as follows:

Subpart 16—Temporary Duty Travel—Issuance of Motor Vehicle for Home-to-Work Transportation Authority

Sec.

1204.1600 Issuance of motor vehicle for home-to-work.

Authority: 31 U.S.C. 1344 note, 40 U.S.C. 486(c).

§ 1204.1600 Issuance of motor vehicle for home-to-work.

When a NASA employee on temporary duty travel is authorized to travel by Government motor vehicle, and the official authorizing the travel determines that there will be a significant savings in time, a Government motor vehicle may be issued at the close of the preceding working day and taken to the employee's residence prior to the commencement of official travel. Similarly, when a NASA employee is scheduled to return from temporary duty travel after the close of working hours, the motor vehicle may be taken to the employee's residence and returned the next regular working day.

Dated: June 5, 2003.
Sean O'Keefe,
Administrator.

[FR Doc. 03-15693 Filed 6-20-03; 8:45 am]

BILLING CODE 7510-01-P